FEDERAL ELECTION COMMISSION

Sunshine Act Meeting

AGENCY: Federal Election Commission.

DATE AND TIME: Tuesday, February 7, 2017 at 10:00 a.m. and its continuation on February 9, 2017.

PLACE: 999 E Street NW., Washington, DC.

STATUS: This meeting was closed to the public.

Federal Register Notice of Previous Announcement—82 FR 9070

This item was also discussed: Matters concerning participation in civil actions or proceedings or arbitration.

* * * * *

PERSON TO CONTACT FOR INFORMATION: Judith Ingram, Press Officer, Telephone: (202) 694-1220.

Dayna C. Brown,
Acting Secretary and Clerk of the Commission.

[FR Doc. 2017-03148 Filed 2-13-17; 4:15 pm]

BILLING CODE 6715-01-P